DEPARTMENT OF TRANSPORTATION

Federal Aviation Administration

[Docket No. FAA-2023-1113]

Agency Information Collection Activities: Requests for Comments; Clearance of Renewed Approval of Information Collection: Aircraft Noise Certification Documents for International Operations

AGENCY: Federal Aviation Administration (FAA), DOT.

ACTION: Notice and request for comments.

SUMMARY: In accordance with the Paperwork Reduction Act of 1995, FAA invites public comments about our intention to request the Office of Management and Budget (OMB) approval to renew an information collection. The collection aids to make the aircraft noise certification information easily accessible to the flight crew and presentable upon request to the appropriate foreign officials for international airline operation of U.S. carriers. The information to be collected upholds the U.S. obligations under the Convention on International Civil Aviation and for which FAA policy comply with International Civil Aviation Organization (ICAO) Standards and Recommended Practices to the maximum extent practicable. Thus the FAA has adopted ICAO's Standards and Recommended Practices as U.S. regulations as a means of compliance with Annex 16 and requires noise documentation be carried on board aircraft that leave the United States.

DATES: Written comments should be submitted by July 7, 2023.

ADDRESSES: Please send written comments:

By Electronic Docket: www.regulations.gov (Enter docket number into search field).

By mail: Sandy Liu, 800 Independence Ave. SW, Washington, DC 20591, Attn: AEE-100.

By fax: 202-267-5594.

FOR FURTHER INFORMATION CONTACT: Sandy R. Liu by email at: sandy.liu@faa.gov; phone: 202-267-4748.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0737.

Title: Aircraft Noise Certification Documents for International Operations.

Form Numbers: None. Reference: ICAO Annex 16, Vol.1—Aircraft Noise, Eighth edition (July 2017) Attachment G for format.

Type of Review: Renewal of an information collection.

Background: On March 2, 2010, the FAA published the final rule Notice No. 91-312, Aircraft Noise Certification Documents for International Operations (75 FR 9327). It requires operators that fly outside the United States, using aircraft subject to ICAO, Annex 16, Volume 1, to carry aircraft noise certification information on board the aircraft. This collection is needed to ensure consistent international compliance with the ICAO, Annex 16, Volume 1, Amendment 8 that requires certain noise information be carried on board the aircraft. This information must be easily accessible to the flight crew and presentable upon request to the appropriate foreign National Aviation Authority (NAA) officials. The collection is mandatory based on U.S. regulations and international standards.

Respondents: Operators of U.S. registered civil aircraft flying outside the United States.

Frequency: Estimated 75 airplanes per year.

Estimated Average Burden per Response: 25 minutes (0.42 hours) per airplane.

Estimated Total Annual Burden: $30 per airplane or cumulative total $2,250 per year for 75 airplanes affected.

Issued in Washington, DC, on May 2, 2023.
Sandy Liu,
Engineer, Noise Division, Office of Environment and Energy, Noise Division (AEE-100).

[FR Doc. 2023-09652 Filed 5-5-23; 8:45 am]

BILLING CODE 4910-13-P